DEPARTMENT OF COMMERCE

Office of the Secretary

Membership of the Performance Review Board for the Office of the Secretary

AGENCY: Office of the Secretary, Department of Commerce.

ACTION: Notice of Membership on the Office of the Secretary Performance Review Board.

SUMMARY: The Office of the Secretary, the Department of Commerce (DOC), announces the appointment of those individuals who have been selected to serve as members of the Performance Review Board. The Performance Review Board is responsible for (1) reviewing performance appraisals and ratings of Senior Executive Service (SES) members and Senior Level (SL) members and (2) making recommendations to the appointing authority on other performance management issues, such as pay adjustments, bonuses and Presidential Rank Awards. The appointment of these members to the Performance Review Board will be for a period of twenty-four (24) months.

DATES: The period of appointment for those individuals selected for the Office of the Secretary Performance Review Board begins on October 20, 2017.

FOR FURTHER INFORMATION CONTACT: Joan Nagielski, U.S. Department of Commerce, Office of Human Resources Management, Department of Commerce Human Resources Operations Center, Office of Employment and Compensation, 14th and Constitution Avenue NW., Room 50013, Washington, DC 20230, at (202) 482-6342.

SUPPLEMENTARY INFORMATION: In accordance with 5 U.S.C. 4314(c)(4), the Office of the Secretary, Department of Commerce (DOC), announces the appointment of those individuals who have been selected to serve as members of the Office of the Secretary Performance Review Board. The Performance Review Board is responsible for (1) reviewing performance appraisals and ratings of Senior Executive Service (SES) and (SL) members and (2) making recommendations to the appointing authority on other performance management issues, such as pay adjustments, bonuses and Presidential Rank Awards. The appointment of these members to the Performance Review Board will be for a period of twenty-four (24) months.

Dates: The name, position title, and type of appointment of each member of the Performance Review Board are set forth below:

1. Brian DiGiacomo, Assistant General Counsel for Employment, Litigation, and Information Law, Career SES

2. John Cobau, Chief Counsel for International Commerce, Career SES

3. Brian Lenihan, Deputy Assistant Secretary for Legislative and Intergovernmental Affairs, Noncareer SES

4. Byron Adkins, Deputy Director for Facilities and Environmental Quality, Career SES

5. Holly Vineyard, Deputy Assistant Secretary for Global Markets, Career SES

6. Stephen Kong, Chief Counsel for Economic Development, Career SES

7. Eric Branstad, Senior White House Advisor, Noncareer SES

8. Sarah Helen “Sally” Thompson, Deputy Director, Career SES

Dated: October 17, 2017.
Joan M. Nagielski,
Human Resources Specialist, Office of Employment and Compensation, Department of Commerce Human Resources Operations Center, Office of Human Resources Management, Office of the Secretary, Department of Commerce.

[FR Doc. 2017-22791 Filed 10-19-17; 8:45 am]

BILLING CODE 3510-25-P